DEPARTMENT OF EDUCATION

[Docket No.: ED-2022-SCC-0090]

Agency Information Collection Activities; Submission to the Office of Management and Budget for Review and Approval; Comment Request; Randolph-Sheppard Financial Relief and Restoration Payments Appropriation Final Performance Report

AGENCY: Office of Special Education and Rehabilitation Services (OSERS), Department of Education (ED).

ACTION: Notice.

SUMMARY: In accordance with the Paperwork Reduction Act of 1995, ED is proposing a new information collection.

DATES: Interested persons are invited to submit comments on or before October 12, 2022.

ADDRESSES: Written comments and recommendations for proposed information collection requests should be sent within 30 days of publication of this notice to www.reginfo.gov/public/do/PRAMain. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Corinne Weidenthal, 202-245-6529.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed ICR that is described below. The Department is especially interested in public comments addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public record.

Title of Collection: Randolph-Sheppard Financial Relief and Restoration Payments Appropriation Final Performance Report.

OMB Control Number: 1820-NEW.

Type of Review: A new information collection.

Respondents/Affected Public: State, Local, and Tribal Governments.

Total Estimated Number of Annual Responses: 51.

Total Estimated Number of Annual Burden Hours: 51.

Abstract: This is a new data collection resulting from enactment of the Consolidated Appropriations Act of 2021, division H, title III, section 318. This provision authorized the Secretary of Education to allot $20,000,000 for one-time financial relief and restoration grants consistent with the purposes of the Randolph-Sheppard Act as authorized under section 10 of such Act (20 U.S.C. 107f). Prior to this legislation, Congress has not appropriated such funds concerning the Randolph-Sheppard Vending Facilities Act. As such, the Department is seeking this data collection in order to collect Final Performance Report data from the State licensing agencies (SLAs). SLAs must obligate funds by 9.30.2022 and liquidate by 1.30.2023. The Department estimates that this data collection will result in a minor burden increase to respondents and will take up to 1 hour to complete the Final Performance Report.

Dated: September 7, 2022.
Juliana Pearson,
PRA Coordinator, Strategic Collections and Clearance, Governance and Strategy Division, Office of Chief Data Officer, Office of Planning, Evaluation and Policy Development.

[FR Doc. 2022-19637 Filed 9-9-22; 8:45 am]

BILLING CODE 4000-01-P